DEPARTMENT OF HEALTH AND HUMAN SERVICES

Health Resources and Services Administration

Charter Renewal for the Advisory Council on Blood Stem Cell Transplantation

AGENCY: Health Resources and Services Administration (HRSA), Department of Health and Human Services (HHS).

ACTION: Notice.

SUMMARY: In accordance with the Federal Advisory Committee Act, HHS is hereby giving notice that the Advisory Council on Blood Stem Cell Transplantation (ACBSCT or Council) has been rechartered. The effective date of the recharter is February 19, 2021.

FOR FURTHER INFORMATION CONTACT: Robert Walsh, Executive Secretary, Advisory Council on Blood Stem Cell Transplantation, HRSA, 5600 Fishers Lane, Room 08W60, Rockville, Maryland 20857. Phone: (301) 443-6839; email: ACBSCTHRSA@hrsa.gov.

SUPPLEMENTARY INFORMATION: ACBSCT provides advice and recommendations to the Secretary of HHS (Secretary) on policy, program development, and other matters of significance concerning the activities under the authority of 42 U.S.C. 274k; Section 379 of the Public Health Service Act. The Council is governed by the provisions of Public Law 92-463, as amended (5 U.S.C. appendix 2), which sets forth standards for the formation and use of advisory committees.

ACBSCT advises and makes recommendations to the Secretary on matters related to the activities of the C.W. Bill Young Cell Transplantation Program and the National Cord Blood Inventory Program. One of its principal functions is to provide a consolidated, comprehensive source of expert, unbiased analysis and recommendations to the Secretary on the latest advances in the science of blood stem cell transplantation.

The recharter for ACBSCT was approved on February 18, 2021, and filed on February 19, 2021. Recharter of ACBSCT gives authorization for the Council to operate until February 19, 2023.

A copy of the ACBSCT charter is available on the ACBSCT website at https://bloodcell.transplant.hrsa.gov/about/advisory_council/index.html. A copy of the charter can also be obtained by accessing the FACA database that is maintained by the Committee Management Secretariat under the General Services Administration. The website address for the FACA database is http://www.facadatabase.gov/.

Maria G. Button,
Director, Executive Secretariat.

[FR Doc. 2021-03990 Filed 2-25-21; 8:45 am]

BILLING CODE 4165-15-P